DEPARTMENT OF DEFENSE

Department of the Air Force

Notice of Intent To Grant an Exclusive Patent License

AGENCY: Department of the Air Force.

ACTION: Notice.

SUMMARY: Pursuant to the provisions of Part 404 of Title 37, code of Federal Regulations, which implements Public Law 96-517, as amended, the Department of the Air Force announces its intention to grant FASORtronics, LLC., a corporation of New Mexico, having a place of business at 13240 Moon Dance Pl NE., Albuquerque, New Mexico, 87111, an exclusive license in any right, title and interest the Air Force has in:

U.S. Patent No. 7,035,297, issued April 25, 2006, entitled “Continuous wave sodium beacon excitation source” by Dr. David A. Denman, et al.

DATES: A license for this patent will be granted unless a written objection is received within fifteen (15) days from the date of publication of this Notice.

FOR FURTHER INFORMATION CONTACT: Written objection should be sent to: James M. Skorich, Attorney, 2251 Maxwell Ave., SE., 377th ABW/JAN Kirtland AFB, NM 87117-5773. Telephone: (505) 846-1542

Bao-Anh Trinh,
Air Force Federal Register Liaison Officer.

[FR Doc. E8-17325 Filed 7-28-08; 8:45 am]

BILLING CODE 5001-05-P